DEPARTMENT OF HOUSING AND URBAN DEVELOPMENT

[Docket No. FR-7077-N-04]

Privacy Act of 1974; System of Records

AGENCY: Office of Administration, HUD.

ACTION: Notice of a new system of records.

SUMMARY: Pursuant to the provisions of the Privacy Act of 1974, as amended, the Department of the Housing and Urban Development (HUD), Office of the Chief Human Capital Officer (OCHCO) is issuing a public notice of its intent to establish a Privacy Act System of Records titled “Hardship Reassignment”. The purpose of this system of records is to allow HUD to collect and maintain records on individuals requesting a reassignment due to a hardship.

DATES: Comments will be accepted on or before April 10, 2023. This proposed action will be effective immediately upon publication. Routine uses will become effective on the date following the end of the comment period unless comments are received which result in a contrary determination.

ADDRESSES: You may submit comments, identified by docket number or by one of the following method—Docket Number not yet identified.

Federal e-Rulemaking Portal: http://www.regulations.gov. Follow the instructions provided on that site to submit comments electronically.

Fax: 202-619-8365.

Email: www.privacy@hud.gov.

Mail: Attention: Privacy Office; LaDonne White, Chief Privacy Officer; The Executive Secretariat; 451 Seventh Street SW, Room 10139; Washington, DC 20410-0001.

Instructions: All submissions received must include the agency name and docket number for this rulemaking. All comments received will be posted without change to http://www.regulations.gov. including any personal information provided.

Docket: For access to the docket to read background documents or comments received go to http://www.regulations.gov.

FOR FURTHER INFORMATION CONTACT: LaDonne White; 451 Seventh Street SW, Room 10139; Washington, DC 20410-0001; telephone number 202-708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: The new system of records titled, “Hardship Reassignment Program.” This system of records covers HUD's collection and maintenance of records on individuals who request and/or receive a reassignment, due to a hardship; in accordance with 5 CFR 335.102, 5 CFR 302.102(a), and 5 CFR 210.102(b)(12) and HUD's Hardship Reassignment Policy and Procedures Handbook (560.1). These procedures are intended to accommodate, if possible, an employee's request to permanently relocate due to family difficulties. These procedures do not impede the program office's ability to make employee assignments. Additionally, this policy does not require program offices (or selecting officials) to place employees in vacant positions solely based on a hardship. The filling of vacant positions is always at management's discretion.

SYSTEM NAME AND NUMBER:

Hardship Reassignment Program, HUD/OCHCO-04.

SECURITY CLASSIFICATION:

Unclassified.

SYSTEM LOCATION:

Records are maintained at the following locations: U.S. Department of Housing and Urban Development Headquarters location, 451 7th Street SW, Washington, DC 20410-0001.

SYSTEM MANAGER(S):

Sophia Spadacino, Acting Branch Chief, Office of the Chief Human Capital Officer (OCHCO), Employee Health and Wellness Division (EHWD), Reasonable Accommodation Branch (RAB), 451 Seventh Street SW, Washington, DC 20410-0001.

AUTHORITY FOR MAINTENANCE OF THE SYSTEM:

The following legal authority (statute section, Executive Order, etc.) authorizes the maintenance of the records in the system: 5 CFR 335.102, 5 CFR 302.102(a), and 5 CFR 210.102(b)(12) and HUD's Hardship Reassignment Policy and Procedures Handbook (650.1).

PURPOSES OF THE SYSTEM:

The purpose of this system is to allow HUD to collect and maintain records on employees requesting or receiving a relocation due to a hardship, while documenting such determinations to otherwise comply with mandates and Executive Orders. Other purposes for the use of this system are to monitor, process, track and report the processing of approved requests; to locate individuals for personnel research, and to document security violations and supervisory actions taken. Additionally, these records may be used to help streamline and make more efficient the investigations and adjudications processes, while ensuring compliance with applicable laws and regulations, including confidentiality requirements protecting the information individuals submit in support of their hardship reassignment request.

CATEGORIES OF INDIVIDUALS COVERED BY THE SYSTEM:

HUD employees.

CATEGORIES OF RECORDS IN THE SYSTEM:

Name, home address, email address, home telephone numbers, office telephone numbers, work address, employment status, history, salary employee location, grade preference, family information such as medical records to include disability information.

RECORD SOURCE CATEGORIES:

HUD Employees.

ROUTINE USES OF RECORDS MAINTAINED IN THE SYSTEM, INCLUDING CATEGORIES OF USERS AND PURPOSES OF SUCH USES:

A. To a congressional office from the record of an individual, in response to an inquiry from the congressional office made at the request of that individual.

B. To appropriate agencies, entities, and persons when: (1) HUD suspects or has confirmed that there has been a breach of the system of records; (2) HUD has determined that as a result of the suspected or confirmed breach there is a risk of harm to individuals, HUD (including its information systems, program and operations), the Federal Government, or national security; and (3) The disclosure made to such agencies, entities, and persons is reasonably necessary to assist in connection with HUD's efforts to respond to the suspected or confirmed breach or to prevent, minimize, or remedy such harm.

C. To another Federal agency or Federal entity, when HUD determines that information from this system of records is reasonably necessary to assist the recipient agency or entity in (1) responding to suspected or confirmed breach, or (2) preventing, minimizing, or remedying the risk of harm to individuals, the recipient agency or entity (including its information systems, programs, and operations), the Federal Government, or national security, resulting from a suspected or confirmed breach.

D. To appropriate Federal, State, local, tribal, or other governmental agencies or multilateral governmental organizations responsible for investigating or prosecuting the violations of, or for enforcing or implementing, a statute, rule, regulation, order, or license, where HUD determines that the information would assist in the enforcement of civil or criminal laws and when such records, either alone or in conjunction with other information, indicate a violation or potential violation of law.

E. To any component of the Department of Justice or other Federal agency conducting litigation or in proceedings before any court, adjudicative, or administrative body, when HUD determines that the use of such records is relevant and necessary to the litigation and when any of the following is a party to the litigation or have an interest in such litigation: (1) HUD, or any component thereof; or (2) any HUD employee in his or her official capacity; or (3) any HUD employee in his or her individual capacity where the Department of Justice or agency conducting the litigation has agreed to represent the employee; or (4) the United States, or any agency thereof, where HUD determines that litigation is likely to affect HUD or any of its components.

F. To officials of labor organizations recognized under the Civil Service Reform Act when relevant and necessary to their duties of exclusive representation concerning personnel policies, practices, and matters affecting work conditions.

G. To the Office of Personnel Management (OPM), the Merit Systems Protection Board (and its office of the Special Counsel), the Federal Labor Relations Authority (and its General Counsel), or the Equal Employment Opportunity Commission when requested in performance of their authorized duties of exclusive representation concerning personnel policies, practices, and matters affecting work conditions.

POLICIES AND PRACTICES FOR STORAGE OF RECORDS:

Electronic Records and Paper records.

POLICIES AND PRACTICES FOR RETRIEVAL OF RECORDS:

Records are retrievable by Full name.

POLICIES AND PRACTICIES FOR RETENTION AND DISPOSAL OF RECORDS:

Destroy upon verification of successful creation of the final document or file, or when no longer needed for business use, whichever is later. NARA records schedule citation: DAA-GSR-2017-0003-0002

ADMINISTRATIVE, TECHNICAL, AND PHYSICAL SAFEGUARDS:

For Paper Records: Comprehensive paper records are kept in locked metal file cabinets in locked rooms in HUD Headquarters, in the Reasonable Accommodations Branch, which is the office responsible for the Hardship Reassignment. Access to these records is limited to only those persons who have a need for them in the performance of their official duties. All physical access to the building where the system of records is maintained is controlled and monitored by security personnel who perform security checks on a routine basis.

For Electronic Records: Comprehensive electronic records are maintained and stored in an electronic encryption database system. These records can only be accessed based off the user's rights and privileges to the system. Electronic records are stored on the Shared Drive under P209 HUD LAN File Server environment, which runs on the Department's network. This environment complies with the security and privacy controls and procedures as described in the Federal Information Security Management Act (FISMA), National Institute of Standards and Technology (NIST) Special Publications, and Federal; Information Processing Standards (FIPS). A valid HSPD-12 ID Credential, access to HUD's LAN, a valid UserID and Password and a Personalized Identification Number (PIN) is required to access the Hardship Reassignment Program. These records are restricted to only those persons with a role in the Reasonable Accommodations Branch, having a need to access them in the performance of their official duties.

For Electronic Records (cloud based): Comprehensive electronic records are secured and maintained on a cloud-based software server and operating system that resides in Federal Risk and Authorization Management Program (FedRAMP) and Federal Information Security Management Act (FISMA) Moderate dedicated hosting environment. All data located in the cloud-based server is firewalled and encrypted at rest and in transit. The security mechanisms for handing data at rest and in transit are in accordance with HUD encryption standards.

RECORD ACCESS PROCEDURES:

Individuals seeking to determine whether this System of Records contains information on themselves should address written inquiries to the Department of Housing Urban and Development, 451 7th Street SW, Washington, DC. For verification, individuals should provide full name, current address, and telephone number. In addition, the requester must provide either a notarized statement or an unsworn declaration made under 24 CFR 16.4 in the following format:

If executed outside the United States: “I declare (or certify, verify, or state) under penalty of perjury under the laws of the United States of America that the foregoing is true and correct. Executed on (date). (Signature).” If executed within the United States, its territories, possessions, or commonwealths: “I declare (or certify, verify, or state) under penalty of perjury that the foregoing is true and correct. Executed on (date). (Signature).” More information regarding HUD's procedures for accessing records in accordance with the Privacy Act can be found at 24 CFR 16.4, “Protection of Privacy and Access to Individual Records Under the Privacy Act of 1974.”

CONTESTING RECORD PROCEDURES:

The HUD rule for accessing, contesting, and appealing agency determinations by the individual concerned are published in 24 CFR part 16.8 or may be obtained from the system manager.

NOTIFICATION PROCEDURES:

Individuals seeking to determine whether information about themselves is contained in this system should address written inquiries to the Department of Housing Urban Development Office of the Chief Human Capital Officer, 451 7th Street SW, Washington, DC 20410-0001. For verification purposes, individuals should provide full name, office or organization where currently assigned, if applicable, and current address and telephone number. In addition, the requester must provide either a notarized statement or an unsworn declaration made in accordance with 24 CFR part 16, in the following format:

If executed outside the United States: “I declare (or certify, verify, or state) under penalty of perjury under the laws of the United States of America that the foregoing is true and correct. executed on (Date). (Signature).”

If executed within the United States, its territories, possessions, or commonwealths: “I declare (or certify, verify, or state) under penalty of perjury that the foregoing is true and correct. executed on (Date). (Signature).”

EXEMPTIONS PROMULGATED FOR THE SYSTEM:

N/A.

HISTORY:

N/A.

LaDonne White,
Chief Privacy Officer, Office of Administration.

[FR Doc. 2023-04829 Filed 3-8-23; 8:45 am]

BILLING CODE P